DEPARTMENT OF TRANSPORTATION

[Docket No. DOT-OST-2008-0182]

Office of Small and Disadvantaged Business Utilization (OSDBU); Notice of Request for Renewal of Data Collection by the Office of Small and Disadvantaged Business Utilization's (OSDBU) Regional Small Business Transportation Resource Centers (SBTRCs); Agency Information Collection Activities; Request for Comments, Renewal and Approval of Information Collection(s): Regional Center Intake Form (DOT F 4500) and Regional Resource Center Monthly Report Form (DOT F 4502)

AGENCY: Office of the Secretary, DOT.

ACTION: Notice and request for comments.

SUMMARY: The Office of Small and Disadvantaged Business Utilization (OSDBU) invites the public to comment about our intention to request the Office of Management and Budget's (OMB) approval to renew information collection forms, associated with OSDBU. The collection involves the use of the Regional Center Intake Form, (DOT F 4500) which documents the type of assistance provided to each small business that is enrolled in the program.

The use of the Regional Resource Center Monthly Report Form, (DOT F 4502) will highlight activities, such as counseling, marketing, meetings/conferences, and services to businesses as completed during the month. The information will be used to ascertain whether the program is providing services to its constituency, the small business community, in a fair and equitable manner. The information collected is necessary to determine whether small businesses are participating in DOT funded and DOT assisted opportunities with the DOT.

The Counseling Information Form, (DOT F 4640.1) has been eliminated and the information contained in that form is now consolidated into the Regional Resource Center Monthly Report Form (formerly titled Monthly Report of Operations Form). To eliminate duplication and to streamline the data collection process, OSDBU revised the Monthly Report of Operations Form into the Regional Resource Center Monthly Report Form.

We are required to publish this notice in the Federal Register by the Paperwork Reduction Act of 1995. On June 26, 2008, OSDBU published a 60-day notice in the Federal Register (73 FR 36368) Docket #OST-2008-0182, informing the public of OSDBU's intention to extend an approved information collection.

DATES: Written comments should be submitted by: September 2, 2008 and submitted to the attention of the DOT/OST Desk Officer, Office of Information and Regulatory Affairs, Office of Management and Budget, Docket library, Room 10102, 725 17th Street, NW., Washington, DC 20503 or oira_submission @omb.eop.gov (e-mail).

FOR FURTHER INFORMATION CONTACT: Arthur D. Jackson, 202-366-5344 Office of Small and Disadvantaged Business Utilization, Office of the Secretary, U.S. Department of Transportation, 1200 New Jersey Avenue, SE., Room W56 462, Washington, DC 20590. Office hours are from 9 a.m. to 5 p.m., Monday through Friday, except Federal holidays.

SUPPLEMENTARY INFORMATION:

Title: U.S. Department of Transportation, Office of Small and Disadvantaged Business Utilization (OSDBU)

OMB Control No: 2105-0554; Form No.: DOT F 4500, Regional Center Intake Form and Form No.: DOT F 4502, Regional Resource Center Monthly Report Form.

Affected Public: Representatives of DOT Regional Small Business Transportation Resource Centers and the Small Businesses community on a national basis.

Type of Review: Clearance and Renewal.

Abstract: In accordance with Public Law 95-507, an amendment to the Small Business Act and the Small Business Investment Act of 1953, OSDBU is responsible for the implementation and execution of the Department of Transportation (DOT) activities on behalf of small businesses, in accordance with Section 8, 15 and 31 of the Small Business Act (SBA), as amended. The Office of Small and Disadvantaged Business Utilization also administers the provisions of Title 49, of the United States Code, Section 332, the Minority Resource Center (MRC) which includes the duties of advocacy, outreach and financial services on behalf of small and disadvantaged business businesses and those certified under CFR 49 parts 23 and or 26 as Disadvantaged Business Enterprises (DBE).The Small Business Transportation Resource Regional Centers will collect information on small businesses, which includes Disadvantaged Business Enterprise (DBE), Women-Owned Small Business (WOB), Small Disadvantaged Business (SDB), 8(a), Service Disabled Veteran Owned Business (SDVOB), Veteran Owned Small Business (VOSB), HubZone, and types of services they seek from the SBTRCs. Services and responsibilities of the SBTRCs include business analysis, general management & technical assistance and training, business counseling, outreach services/conference participation, short-term loan assistance. The cumulative data collected will be analyzed by the OSDBU to determine the effectiveness of services provided, including counseling, outreach, and financial services. Such data will also be analyzed by the OSDBU to determine agency effectiveness in assisting small businesses to enhance their opportunities to participate in government contracts and subcontracts.

The Regional Center Intake Form, (DOT F 4500) is used by the Regional SBTRC staff to enroll small business clients into the program in order to create a viable database of firms that can participate in government contracts and subcontracts, especially those projects that are transportation related. In addition, each enrolled small business will be assigned a client number that can track the firm's involvement in the services offered by the SBTRCs. Each area on the form must be filled in electronically by the SBTRCs and retained in secured files of the client. The completion of the form is used as a tool for making decisions about the needs of the business, such as; referral to technical assistance agencies for help, identifying the type of profession or trade of the business, the type of certification that the business holds, length of time in business, and location of the firm. The SBTRCs must complete an Intake Form and retain copies in secured files in their offices. A limited amount of privacy information is requested on this form. We have informed the public that the Privacy Act is stated on the form. Under the Privacy Act (5 U.S.C. 552) any person can request to see or get copies of any personal information that DOT has in his or her file, when that file is retrievable by individual identifiers, such as name or social security numbers. Request for information about another party may be denied unless DOT has the written permission of the individual to release the information to the requestor or unless the information is subject to disclosure under the Freedom of Information Act. This can assist the SBTRCs in developing a business plan or adjusting their business plan to increase its ability to market its goods and services to buyers and potential users of their services.

Respondents: Small Business Transportation Resource Centers.

Estimated Number of Respondents: 100.

Frequency: The information will be collected monthly.

Estimated Total Burden on Respondents: 600 hours.

The Regional Resource Center Monthly Report Form (DOT F 4502) for each SBTRC must submit a monthly status report of business activities conducted during the 30 day time frame. The form is used to capture activities and accomplishments that were made by the Regional SBTRCs during the course of the month. In addition, the form includes a data collection section where numbers and hours are reported and a section that is assigned for a written narrative that provides back up that supports the data.

Activities to be reported are (1) Counseling Activity which identifies the counseling hours provided to businesses, number of new appointments, and follow-up on counseled clients. (2) Activity for Businesses Served identifies the type of small business that is helped, such as a DBE, 8(a), WOB, HubZone, SDB, SDVOB, or VOSB. 3) Marketing Activity includes the name of an event attended by the SBTRC and the role played when participating in a conference, workshop or any other venue that relates to small businesses. (4) Meetings that are held with government representatives in the region, or at the state level, are an activity that is reported. (5) Events Hosted by the SBTRCs, such as small business workshops, financial assistance workshops, matchmaking events, are activities that are reported on a monthly basis.

Respondents: Small Business Transportation Resource Centers.

Estimated Number of Respondents: 100.

Frequency: The information will be collected monthly.

Estimated Total Burden on Respondents: 1200 hours.

Comments are invited on: (a) Whether the proposed collection of information is necessary for the proper performance of the functions of the Department, including whether the information will have practical utility; (b) the accuracy of the Departments estimate of the burden of the proposed information collection; (c) ways to enhance the quality, utility and clarity of the information collection; and (d) ways to minimize the burden of the collection of information on respondents, by the use of electronic means, including the use of automated collection techniques or other forms of information technology.

All responses to this notice will be summarized and included in the request for OMB approval. All comments will also become a matter of public record.

Issued in Washington, DC on July 25, 2008.
Patricia Lawton,
DOT Clearance Officer, Office of the Chief Information Officer.

[FR Doc. E8-17671 Filed 7-31-08; 8:45 am]

BILLING CODE 4910-9X-P